DEPARTMENT OF THE INTERIOR

Bureau of Land Management

[AA-6697-D, AA-6697-F, AA-6697-A2; AK-964-1410-KC-P]

Alaska Native Claims Selection

AGENCY: Bureau of Land Management, Interior.

ACTION: Notice of decision approving lands for conveyance.

SUMMARY: As required by 43 CFR 2650.7(d), notice is hereby given that an appealable decision approving lands for conveyance pursuant to the Alaska Native Claims Settlement Act will be issued to Tanadgusix Corporation. The lands are in the vicinity of Unalaska and Umnak Islands, Alaska, and are located in:

Seward Meridian, Alaska

T. 73 S., R. 121 W.,

Secs. 25 and 36.

Containing approximately 1,280 acres.

T. 78 S., R. 126 W.,

Sec. 31.

Containing approximately 247 acres.

T. 79 S., R. 126 W.,

Secs. 2, 3, 10, and 11;

Secs. 14, 15, 23, and 24;

Secs. 25, 26, 34, and 35.

Containing approximately 7,606 acres.

T. 80 S., R. 126 W.,

Sec. 2.

Containing approximately 307 acres.

T. 78 S., R. 127 W.,

Secs. 25, 26, 33, and 34;

Secs. 35 and 36.

Containing approximately 1,464 acres.

T. 78 S., R. 131 W.,

Secs. 18, 19, and 20;

Secs. 29 to 32, inclusive.

Containing approximately 4,408 acres.

T. 79 S., R. 131 W.,

Secs. 6, 7, and 18.

Containing approximately 1,879 acres.

T. 78 S., R. 132 W.,

Secs. 1, 12, 13, and 14;

Secs. 23 to 26, inclusive;

Sec. 36.

Containing approximately 3,125 acres.

T. 79 S., R. 132 W.,

Secs. 1 and 2;

Secs. 11 to 15, inclusive;

Secs. 22, 23, and 24.

Containing approximately 3,735 acres.

T. 80 S., R. 132 W.,

Secs. 7, 12, 13 and 18;

Sec. 19;

Secs. 24 to 30, inclusive;

Secs. 32, 33, and 34.

Containing approximately 8,405 acres.

T. 81 S., R. 133 W.,

Secs. 4 and 5.

Containing approximately 1,280 acres.

Aggregating approximately 33,736 acres.

A portion of the subsurface estate in these lands will be conveyed to The Aleut Corporation when the surface estate is conveyed to Tanadgusix Corporation. Notice of the decision will also be published four times in the Anchorage Daily News.

DATES: The time limits for filing an appeal are:

1. Any party claiming a property interest which is adversely affected by the decision shall have until December 8, 2008 to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7504.

FOR FURTHER INFORMATION, CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Hillary Woods,
Land Law Examiner, Land Transfer Adjudication I.

[FR Doc. E8-26470 Filed 11-5-08; 8:45 am]

BILLING CODE 4310-JA-P